DEPARTMENT OF EDUCATION

National Advisory Committee on Institutional Quality and Integrity

AGENCY: U.S. Department of Education, National Advisory Committee on Institutional Quality and Integrity (NACIQI).

ACTION: Notice of membership.

SUMMARY: This notice lists the members of the National Advisory Committee on Institutional Quality and Integrity (NACIQI). This notice is required under Section 114(e)(1) of the Higher Education Act of 1965, as amended (HEA).

ADDRESSES: U.S. Department of Education, Office of Postsecondary Education, 400 Maryland Ave. SW, Room 2C-159, Washington, DC 20202.

FOR FURTHER INFORMATION CONTACT: George Alan Smith, Executive Director/Designated Federal Official, NACIQI, U.S. Department of Education, 400 Maryland Ave. SW, Room 2C-159, Washington, DC, telephone: (202) 453-7757 or email george.alan.smith@ed.gov.

SUPPLEMENTARY INFORMATION:

NACIQI's Statutory Authority and Functions

The NACIQI is established under Section 114 of the HEA, and is composed of 18 members appointed—

(A) On the basis of the individuals' experience, integrity, impartiality, and good judgment;

(B) From among individuals who are representatives of, or knowledgeable concerning, education and training beyond secondary education, representing all sectors and types of institutions of higher education; and,

(C) On the basis of the individuals' technical qualifications, professional standing, and demonstrated knowledge in the fields of accreditation and administration of higher education.

The NACIQI meets at least twice a year and advises the Secretary of Education with respect to:

• The establishment and enforcement of the standards of accrediting agencies or associations under subpart 2 of part G of Title IV of the HEA;

• The recognition of specific accrediting agencies or associations.

• The preparation and publication of the list of nationally recognized accrediting agencies and associations;

• The eligibility and certification process for institutions of higher education under Title IV of the HEA, together with recommendations for improvements in such process;

• The relationship between (1) accreditation of institutions of higher education and the certification and eligibility of such institutions, and (2) State licensing responsibilities with respect to such institutions; and

• Any other advisory functions relating to accreditation and institutional eligibility that the Secretary of Education may prescribe by regulation.

What are the terms of office for the committee members?

The term of office of each member is six years. Any member appointed to fill a vacancy occurring prior to the expiration of the term for which the member's predecessor was appointed shall be appointed for the remainder of such term.

Who are the current members of the committee?

The current members of the NACIQI are:

Members Appointed by the Secretary of Education with Terms Expiring September 30, 2025:

• Ronnie L. Booth, Ph.D., Former President, Tri-County Technical College, Anderson, South Carolina.

• Wallace E. Boston, Ph.D., President Emeritus, American Public University System, Inc. Charles Town, West Virginia.

• David A. Eubanks, Ph.D., Assistant Vice President for Assessment and Institutional Effectiveness, Furman University, Greenville, South Carolina.

• Molly Hall-Martin, Student Member, University of Iowa, College of Education, Higher Education & Student Affairs, Coralville, Iowa.

• D. Michael Lindsay, Ph.D., President, Taylor University, Upland, Indiana.

• Mary Ellen Petrisko, Ph.D., Former President, WASC Senior College and University Commission, Pittsburgh, Pennsylvania.

Members Appointed by the Speaker of the House of Representatives with Terms Expiring September 30, 2026:

• Kathleen Sullivan Alioto, Ed.D., Strategic Advisor, Fundraiser, and Consultant, New York, New York, San Francisco, California, and Boston, Massachusetts.

• Roslyn Clark Artis, Ed.D., President, Benedict College, Columbia, South Carolina.

• Jennifer Blum, J.D., Principal, Blum Higher Education Advising, PLLC, Washington, DC.

• Arthur E. Keiser, Ph.D., Chancellor, Keiser University, Fort Lauderdale, Florida.

• Robert Mayes, Jr., CEO, Columbia Southern Education Group, Elberta, Alabama.

• Robert Shireman, Director of Higher Education Excellence and Senior Fellow, The Century Foundation, Berkeley, California.

Members Appointed by the President Pro Tempore of the Senate with Terms Expiring September 30, 2022:

• Jill Derby, Ph.D., Senior Consultant, Association of Governing Boards of Universities and Colleges, Gardnerville, Nevada.

• Paul J. LeBlanc, Ph.D., President, Southern New Hampshire University, Manchester, New Hampshire.

• Claude O. Pressnell Jr., Ed.D., President, Tennessee Independent Colleges and Universities Association, Nashville, Tennessee.

• Steven Van Ausdle, Ph.D., President Emeritus, Walla Walla Community College, Walla Walla, Washington.

Electronic Access to this Document: The official version of this document is the document published in the Federal Register. Free internet access to the official edition of the Federal Register and the Code of Federal Regulations is available via the Federal Digital System at www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Miguel A. Cardona,
Secretary of Education.

[FR Doc. 2021-27271 Filed 12-15-21; 8:45 am]

BILLING CODE 4000-01-P